SMALL BUSINESS ADMINISTRATION

[Declaration of Disaster #3347]

State of Texas; Amendment #2

In accordance with a notice received from the Federal Emergency Management Agency, dated June 20, 2001, the above-numbered Declaration is hereby amended to establish the incident period for this disaster as occurring between June 5, 2001 and continuing through June 20, 2001.

All other information remains the same, i.e., the deadline for filing applications for physical damage is August 8, 2001, and for loans for economic injury is March 8, 2002.

(Catalog of Federal Domestic Assistance Program Nos. 59002 and 59008)
Dated: June 22, 2001.
Herbert L. Mitchell,
Associate Administrator For Disaster Assistance.

[FR Doc. 01-16430 Filed 6-28-01; 8:45 am]

BILLING CODE 8025-01-P